DEPARTMENT OF ENERGY

10 CFR Part 431

[EERE-2017-BT-TP-0029]

Energy Conservation Program: Test Procedure for Water-Source Heat Pumps

AGENCY: Office of Energy Efficiency and Renewable Energy, Department of Energy.

ACTION: Extension of public comment period.

SUMMARY: On June 22, 2018, the U.S. Department of Energy (“DOE”) published in the Federal Register a request for information (RFI) to consider whether to amend DOE's test procedure for commercial water-source heat pumps (“WSHPs”). This notice announces an extension of the public comment period for submitting comments on the RFI or any other subject within the scope of the RFI. The comment period is extended to September 21, 2018.

DATES: The comment period for the RFI published on June 22, 2018 (83 FR 29048) is extended. Written comments and information are requested and will be accepted on or before September 21, 2018.

ADDRESSES: Interested persons are encouraged to submit comments using the Federal eRulemaking Portal at http://www.regulations.gov. Follow the instructions for submitting comments. Alternatively, interested persons may submit comments, identified by docket number EERE-2017-BT-TP-0029, by any of the following methods:

• Federal eRulemaking Portal: http://www.regulations.gov. Follow the instructions for submitting comments.

• Email: to WSHP2017TP0029@ee.doe.gov. Include the docket number EERE-2017-BT-TP-0029 in the subject line of the message.

• Postal Mail: Appliance and Equipment Standards Program, U.S. Department of Energy, Building Technologies Office, Mailstop EE-5B, Test Procedure RFI for Water-Source Heat Pumps, Docket No. EERE-2017-BT-TP-0029, 1000 Independence Avenue SW, Washington, DC 20585-0121. Telephone: (202) 287-1445. If possible, please submit all items on a compact disc (“CD”), in which case it is not necessary to include printed copies.

• Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at: https://www.regulations.gov/docketBrowser?rpp=25&po=0&D=EERE-2017-BT-TP-0029. The docket web page contains instructions on how to access all documents, including public comments, in the docket.

FOR FURTHER INFORMATION CONTACT: Mr. Antonio Bouza, U.S. Department of Energy, Office of Energy Efficiency and Renewable Energy, Building Technologies Office, EE-5B, 1000 Independence Avenue SW, Washington, DC 20585-0121. Telephone: (202) 586-4563. Email: ApplianceStandardsQuestions@ee.doe.gov.

Mr. Eric Stas, U.S. Department of Energy, Office of the General Counsel, GC-33, 1000 Independence Avenue SW, Washington, DC 20585. Telephone: (202) 586-9507. Email: Eric.Stas@hq.doe.gov.

For further information on how to submit a comment, or review other public comments and the docket, contact the Appliance and Equipment Standards Program staff at (202) 287-1445 or by email: ApplianceStandardsQuestions@ee.doe.gov.

SUPPLEMENTARY INFORMATION: On June 22, 2018, the U.S. Department of Energy (“DOE”) published in the Federal Register a request for information (RFI) to consider whether to amend DOE's test procedure for commercial water-source heat pumps (“WSHPs”). 83 FR 29048. The document provided for submitting written comments and information by July 23, 2018. DOE has received a request from the Air-Conditioning, Heating, and Refrigeration Institute (AHRI), dated June 23, 2018, to provide an additional 60 days to submit comments pertaining to the RFI for WSHP test procedures. This request can be found at https://www.regulations.gov/document?D=EERE-2017-BT-TP-0029-0002.

An extension of the comment period would allow additional time for AHRI and other interested parties to consider the issues presented in the RFI, gather any additional data and information, and submit comments to DOE. The RFI can be found at https://www.regulations.gov/document?D=EERE-2017-BT-TP-0029-0001. In view of the request from AHRI, DOE has determined that a 60-day extension of the public comment period is appropriate. The comment period is extended to September 21, 2018.

Issued in Washington, DC, on June 28, 2018.
Kathleen B. Hogan,
Deputy Assistant Secretary for Energy Efficiency, Energy Efficiency and Renewable Energy.

[FR Doc. 2018-14606 Filed 7-6-18; 8:45 am]

BILLING CODE 6450-01-P